DEPARTMENT OF TRANSPORTATION

National Highway Traffic Safety Administration

[Docket No. NHTSA-2012-0046]

Agency Requests for Approval of a New Information Collection(s): Human Subjects Experiments Related to Keyless Ignition Controls, Gear Selection Controls, and Audible Warnings

AGENCY: National Highway Traffic Safety Administration (NHTSA), Department of Transportation (DOT).

ACTION: Notice and request for comments.

SUMMARY: The Department of Transportation (DOT) invites public comments about our intention to request Office of Management and Budget (OMB) approval for a new information collection. The collection involves recruitment of participants, balancing the subject sample and debriefing questionnaires. The information to be collected will be used to balance the participants between younger and older age groups, genders and previous driving experience with keyless ignition, or lack thereof. These observational experiments are being conducted in support of current agency regulatory efforts that contemplate revising Federal Motor Vehicle Safety Standard No. 114 (Docket No. NHTSA-2011-0174 RIN 2127-AK88). We are required to publish this notice in the Federal Register by the Paperwork Reduction Act of 1995, Public Law 104-13.

DATES: Written comments should be submitted by June 29, 2012.

ADDRESSES: You may submit comments [identified by Docket No. NHTSA-2012-0046] through one of the following methods:

• Federal eRulemaking Portal: http://www.regulations.gov. Follow the online instructions for submitting comments.

• Fax: 1 (202) 493-2251

• Mail or Hand Delivery: Docket Management Facility, U.S. Department of Transportation, 1200 New Jersey Avenue SE., West Building, Room W12-140, Washington, DC 20590, between 9 a.m. and 5 p.m., Monday through Friday, except Federal holidays.

FOR FURTHER INFORMATION CONTACT: Gayle Dalrymple, NVS-123, National Highway Traffic Safety Administration, U.S. Department of Transportation, 1200 New Jersey Avenue SE., Washington, DC 20590. Phone: 202-366-5559. Email: gayle.dalrymple@dot.gov.

SUPPLEMENTARY INFORMATION: OMB Control Number: 2127-New.

Title: Human Subjects Experiments Related to Keyless Ignition Controls, Gear Selection Controls and Audible Warnings.

Form Numbers: n/a.

Type of Review: New Information Collection.

Background: NHTSA has initiated research and rulemaking to address these issues related to consumer confusion when using ignition systems in which there is no physical key: Inability to shut off the engine and/or shift to neutral during unintended acceleration events, leaving the vehicle not in “park” and inadvertently leaving the vehicle without shutting off the propulsion system.¹ Evaluations of driver use of push-button start/stop controls and electronically shifted transmissions are required to support this rulemaking.

¹ Docket NHTSA-2011-0174 available at www.regulations.gov.

Human factors observational experiments are proposed to examine these issues. The Volpe National Transportation Systems Center (Volpe Center), which is a component of the U.S. DOT, Research and Innovative Technology Administration (RITA), has been funded to conduct this research under an Inter-Agency Agreement (IAA) with NHTSA. Under a task order contract with the Massachusetts Institute of Technology (MIT), these experiments will be conducted in a simulator at the Volpe Center by staff of the MIT Age Lab. The collection of information consists of: (1) Recruitment material and a brief eligibility questionnaire for applicants and (2) debriefing questionnaire for participants. Applicant responses to the eligibility questionnaire will be used to balance the subject sample demographically and between drivers who are naïve to keyless ignition, and those who are not. Subjects will be paid $20 to $75 depending on the required time commitment, and will be tested and debriefed individually. The purpose of the debriefing is to probe for insights into the factors that led to errors in the simulated driving and participant reactions to mitigation measures such as audible alarms.

Respondents: The Age Lab has conducted numerous experiments related to driving instrumented research vehicles and simulators, and has a panel of more than 7,000 persons in the Boston area who have indicated they would like to be participants in future experiments. Whenever the Age Lab has a new experiment, an email blast is sent to all members of this panel. The email consists of a one-paragraph description of the experiment and the eligibility requirements, along with a reply button that connects respondents to the eligibility questionnaire. Typically, more persons apply than are needed. Staff members from the Age Lab then contact applicants individually by email to match them with available time slots. For these experiments, the subject pool will be balanced across age and gender. About two-thirds of the subjects will be naïve to cars with keyless ignition systems, while one-third will be owners of vehicles with keyless ignitions systems.

For evaluation of auditory warnings to prevent vehicle roll-away, a very short test (one response per subject) is proposed. This testing will be conducted in stationary vehicles in public parking lots using a convenience sample drawn from passers-by.

Estimated Number of Respondents: ~135 for keyless/PRNDL experiment. ~240 for roll-away warning experiment.

Estimated Number of Responses: One response per respondent to 7 to 10 questions

Estimated Total Annual Burden: Three minutes per respondent to consider and respond to recruiting questions (18.75 hours total for number of respondents needed for study, but a substantially larger and unknown number may respond).

Estimated Frequency: One time

Public Comments Invited: You are asked to comment on any aspect of this information collection, including (a) Whether the proposed collection of information is necessary for the Department's performance, (b) the accuracy of the estimated burden, (c) ways for the Department to enhance the quality, utility and clarity of the information collection and (d) ways that the burden could be minimized without reducing the quality of the collected information. The agency will summarize and/or include your comments in the request for OMB's clearance of this information collection.

Authority: The Paperwork Reduction Act of 1995; 44 U.S.C. Chapter 35, as amended; and 49 CFR 1:48.

Issued on: April 24, 2012.
Christopher J. Bonanti,
Associate Administrator for Rulemaking.

[FR Doc. 2012-10300 Filed 4-27-12; 8:45 am]

BILLING CODE 4910-59-P